ENVIRONMENTAL PROTECTION AGENCY

[FRL9189-6]

National Environmental Justice Advisory Council Notification of Public Teleconference and Public Comment

AGENCY: Environmental Protection Agency.

ACTION: Notification of public teleconference and public comment.

SUMMARY: Pursuant to the Federal Advisory Committee Act (FACA), Public Law 92-463, the U.S. Environmental Protection Agency (EPA) hereby provides notice that the National Environmental Justice Advisory Council (NEJAC) will host a public teleconference meeting on Thursday, August 26, 2010, starting at 1 p.m. Eastern Time. The primary topic of discussion will be EPA's charge to the NEJAC on incorporating environmental justice concerns into permits under Federal environmental laws, and EPA's draft Plan EJ 2014. This NEJAC National Public Teleconference meeting is open to the public. There will be a public comment period beginning at 3:30 p.m. until 4 p.m. Eastern Time. Members of the public are encouraged to provide comments relevant to the topics of the meeting.

For additional information about registering to attend the meeting or to provide public comment, please see SUPPLEMENTARY INFORMATION. Due to a limited number of telephone lines, attendance will be on a first-come, first-serve basis. There is no fee to attend, but pre-registration is required. Registration for the teleconference meeting closes August 23, 2010. The deadline to sign-up for public comment, or to submit written public comments, is also August 23.

DATES: The NEJAC teleconference meeting on August 26, 2010, will begin promptly at 1 p.m. Eastern Time.

FOR FURTHER INFORMATION CONTACT: To register via E-mail: Send an e-mail to NEJACAugust2010meeting@AlwaysPursuingExcellence.com with “Register for the August NEJAC Teleconference” in the subject line. Please provide your name, organization, city and state, e-mail address, and telephone number for future follow-up. To register by Phone or Fax: Send a fax (please print), or leave a voice message, with your name, organization, city and state, e-mail, and telephone number to 877-773-0779. Please remember to specify which meeting you are registering to attend (e.g. NEJAC-August meeting). Please also state whether you would like to be put on the list to provide public comment, and whether you are submitting written comments before the August 23rd deadline. Non-English speaking attendees wishing to arrange for a foreign language interpreter also may make appropriate arrangements using these numbers.

Questions or correspondence concerning the teleconference meeting should be directed to Mr. Aaron Bell, U.S. Environmental Protection Agency, at 1200 Pennsylvania Avenue, NW., (MC2201A), Washington, DC 20460; by telephone at (202) 564-1044, via e-mail at Bell.Aaron@epa.gov; or by fax at (202) 564-1624. Additional information about the NEJAC and upcoming meetings is available on the following Web site: http://www.epa.gov/environmentaljustice/nejac/meetings.html.

SUPPLEMENTARY INFORMATION: The Charter of the NEJAC states that the advisory committee shall provide independent advice to the Administrator on areas that may include, among other things, “advice about broad, cross-cutting issues related to environmental justice, including environment-related strategic, scientific, technological, regulatory, and economic issues related to environmental justice.”

A. Public Comment: Members of the public who wish to attend the August 26, 2010 teleconference meeting or to provide public comment must pre-register by 11 a.m. Eastern Time, Monday, August 23rd. Individuals or groups making remarks during the public comment period will be limited to a total time of five minutes. Only one representative of a community, organization, or group will be allowed to speak. Written comments also can be submitted for the record. The suggested format for individuals providing public comments is as follows: Name of Speaker, Name of Organization/Community/E-mail, a brief description of the concern, and what you want the NEJAC to advise EPA to do. Written comments received by 11 a.m. Eastern Time, Monday, August 23, 2010, will be included in the materials distributed to the members of the NEJAC. Written comments received after that time will be provided to the NEJAC as time allows. All written comments should be sent to EPA's support contractor, APEX Direct, Inc., via e-mail or fax as listed in the FOR FURTHER INFORMATION CONTACT section above.

B. Information about Services for Individuals with Disabilities: For information about access or services for individuals with disabilities, please contact Ms. Estela Rosas, EPA Contractor, APEX Direct, Inc., at 877-773-0779 or via e-mail at NEJACAugust2010meeting@AlwaysPursuingExcellence.com. To request special accommodations for a disability, please contact Ms. Rosas, at least 5 days prior to the meeting, to give EPA sufficient time to process your request. All requests should be sent to the address, e-mail, or FAX number listed in the “FOR FURTHER INFORMATION CONTACT” section above.

Dated: August 10, 2010.
Victoria Robinson,
Designated Federal Officer, National Environmental Justice Advisory Council.

[FR Doc. 2010-20185 Filed 8-13-10; 8:45 am]

BILLING CODE 6560-50-P